DEPARTMENT OF HOMELAND SECURITY

Fee for Services To Support FEMA's Offsite Radiological Emergency Preparedness Program

AGENCY: Federal Emergency Management Agency, DHS.

ACTION: Notice.

SUMMARY: The Federal Emergency Management Agency (FEMA) has established a fiscal year (FY) 2009 hourly rate of $49.13 for assessing and collecting fees from Nuclear Regulatory Commission (NRC) licensees for services provided by FEMA personnel for FEMA's Radiological Emergency Preparedness (REP) Program.

DATES: This user fee hourly rate is effective for FY 2009 (October 1, 2008, to September 30, 2009).

FOR FURTHER INFORMATION CONTACT: James Kish, Director, Technological Hazards Division, Department of Homeland Security/FEMA, 1800 S. Bell Street-CC845, Mail Stop 3025, Arlington, VA 20598-3025; (202) 212-2205 (phone), or (e-mail) james.kish@dhs.gov.

SUPPLEMENTARY INFORMATION: As authorized in 42 U.S.C. 5196e, FEMA will be charging an hourly user fee rate of $49.13 to NRC licensees of commercial nuclear power plants for all REP Program site-specific related services provided by FEMA personnel as described in 44 CFR part 354. FEMA will deposit these funds in the REP Program Fund to offset the actual costs by FEMA for its REP Program.

FEMA established the hourly rate based upon methodology set forth in 44 CFR 354.4(b), “Determination of site-specific biennial exercise related component for FEMA personnel,” and will use the rate to assess and collect fees for site-specific biennial exercise related services rendered by FEMA personnel. This hourly rate only addresses charges to NRC licensees for services that FEMA personnel provide under the site-specific component, not charges for services FEMA personnel provide under the flat fee component referenced at 44 CFR 354.4(d), nor for services that FEMA contractors provide. We will charge for FEMA contractors' services in accordance with 44 CFR 354.4(c) and (d) for the recovery of appropriated funds obligated for the Emergency Management Planning and Assistance (EMPA) portion of FEMA's REP Program budget.

Dated: April 23, 2009.
Nancy Ward,
Acting Administrator, Federal Emergency Management Agency.

[FR Doc. E9-10084 Filed 4-30-09; 8:45 am]

BILLING CODE 9110-21-P